DEPARTMENT OF TRANSPORTATION

Federal Aviation Administration

14 CFR Part 95

[Docket No. 31408; Amdt. No. 563]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective 0901 UTC, January 27, 2022.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg 29 Room 104, Oklahoma City, OK 73125. Telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC, on December 27, 2021.
Thomas J Nichols,
Aviation Safety, Flight Standards Service Manager, Standards Section, Flight Procedures & Airspace Group, Flight Technologies and Procedures Division.

Adoption of the Amendment

Accordingly, pursuant to the authority delegated to me by the Administrator, part 95 of the Federal Aviation Regulations (14 CFR part 95) is amended as follows effective at 0901 UTC, January 27, 2022.

1. The authority citation for part 95 continues to read as follows:

Authority: 49 U.S.C. 106(g), 40103, 40106, 40113, 40114, 40120, 44502, 44514, 44719, 44721.

2. Part 95 is amended to read as follows:

Revisions to IFR Altitudes & Changeover Point
[Amendment 563 effective date January 27, 2022]
From | To | MEA | MAA
§ 95.3000 Low Altitude RNAV Routes
§ 95.3348 RNAV Route T348 Is Amended by Adding
LESNR, SD WP | TECUD, SD WP | *4000 | 17500
TECUD, SD WP | SIOUX FALLS, SD VORTAC | *4100 | 17500
SIOUX FALLS, SD VORTAC | GRSIS, MN WP | *3500 | 17500
§ 95.3409 RNAV Route T409 Is Added To Read
LLUKY, NE WP | ADEDY, SD WP | *4000 | 17500
ADEDY, SD WP | LESNR, SD WP | *4000 | 17500
LESNR, SD WP | PIERRE, SD VORTAC | *4200 | 17500
§ 95.4000 High Altitude RNAV Routes
§ 95.4013 RNAV Route Q13 Is Amended To Read in Part
SKANN, NV WP | SHUFL, NV WP | #*25000 | 45000
*18000—GNSS MEA
*DME/DME/IRU MEA
SHUFL, NV WP | LOMIA, NV WP | #*25000 | 45000
*18000—GNSS MEA
*DME/DME/IRU MEA
§ 95.4015 RNAV Route Q15 Is Amended To Read in Part
SKANN, NV WP | SHUFL, NV WP | #*25000 | 45000
*18000—GNSS MEA
*DME/DME/IRU MEA
SHUFL, NV WP | LOMIA, NV WP | #*25000 | 45000
*18000—GNSS MEA
*DME/DME/IRU MEA

From | To | MEA
§ 95.6001 Victor Routes—U.S.
§ 95.6001 VOR Federal Airway V1 Is Amended To Read in Part
COYLE, NJ VORTAC | *DIXIE, NJ FIX | 3800
*3800—MCA DIXIE, NJ FIX, SW BND
DIXIE, NJ FIX | KENNEDY, NY VOR/DME | *2500
*1700—MOCA
§ 95.6016 VOR Federal Airway V16 Is Amended To Read in Part
COYLE, NJ VORTAC | *DIXIE, NJ FIX | 3800
*3800—MCA DIXIE, NJ FIX, SW BND
DIXIE, NJ FIX | KENNEDY, NY VOR/DME | *2500
*1700—MOCA
§ 95.6031 VOR Federal Airway V31 Is Amended To Read in Part
ROCHESTER, NY VOR/DME | AIRCO, NY FIX | 4000
§ 95.6036 VOR Federal Airway V36 Is Amended To Delete
U.S. CANADIAN BORDER | U.S. CANADIAN BORDER | *8000
*3000—MOCA
SAULT STE MARIE, MI VOR/DME | U.S. CANADIAN BORDER | *5000
*2800—MOCA
BUFFALO, NY VOR/DME | *BURST, NY WP | **11000
*11000—MCA BURST, NY WP, NW BND
**4000—GNSS MEA
BURST, NY WP | THINK, NY WP | 4000
THINK, NY WP | ELMIRA, NY VOR/DME | 3500
§ 95.6045 VOR Federal Airway V45 Is Amended To Read in Part
NEW BERN, NC VOR/DME | KINSTON, NC VORTAC | #2900
#KINSTON R-130 UNUSABLE USE NEWBERN R-313
KINSTON, NC VORTAC | BRADE, NC FIX | UNUSABLE
BRADE, NC FIX | RALEIGH/DURHAM, NC VORTAC | 2600
§ 95.6063 VOR Federal Airway V63 Is Amended To Read in Part
RAZORBACK, AR VORTAC | BILIE, MO FIX | *4000
*3200—MOCA
§ 95.6070 VOR Federal Airway V70 Is Amended To Read in Part
GRAND STRAND, SC VORTAC | WILMINGTON, NC VORTAC | UNUSABLE
WILMINGTON, NC VORTAC | BEULA, NC FIX | UNUSABLE
BEULA, NC FIX | KINSTON, NC VORTAC | UNUSABLE
KINSTON, NC VORTAC | PEARS, NC FIX | UNUSABLE
§ 95.6071 VOR Federal Airway V71 Is Amended To Read in Part
SPRINGFIELD, MO VORTAC | BUTLER, MO VORTAC | *3000
*2500—MOCA
§ 95.6072 VOR Federal Airway V72 Is Amended To Read in Part
RAZORBACK, AR VORTAC | EDUGE, AR FIX | *4000
*3200—MOCA
§ 95.6084 VOR Federal Airway V84 Is Amended To Delete
BUFFALO, NY VOR/DME | GENESEO, NY VOR/DME | 4000
§ 95.6088 VOR Federal Airway V88 Is Amended To Read in Part
TULSA, OK VORTAC | *VINTA, OK FIX | 2700
*6200—MCA VINTA, OK FIX, NE BND
VINTA, OK FIX | SPRINGFIELD, MO VORTAC | *6200
*3100—MOCA
*4000—GNSS MEA
§ 95.6132 VOR Federal Airway V132 Is Amended To Read in Part
NALLY, KS FIX | SPRINGFIELD, MO VORTAC | *4500
*2800—MOCA
*3000—GNSS MEA
§ 95.6140 VOR Federal Airway V140 Is Amended To Read in Part
TULSA, OK VORTAC | *PRYOR, OK FIX | **3400
*2900—MRA
**2300—MOCA
PRYOR, OK FIX | RAZORBACK, AR VORTAC | *3400
*2900—MOCA
RAZORBACK, AR VORTAC | SPRAY, AR FIX | *4000
*2900—MOCA
§ 95.6159 VOR Federal Airway V159 Is Amended To Read in Part
SPRINGFIELD, MO VORTAC | TRALE, MO FIX | 3000
TRALE, MO FIX | HODEN, MO FIX | *4000
*2400—MOCA
§ 95.6180 VOR Federal Airway V180 Is Amended To Delete
INTERNATIONAL FALLS, MN VOR/DME | U.S. CANADIAN BORDER | 2900
§ 95.6190 VOR Federal Airway V190 Is Amended To Read in Part
OSWEGO, KS VOR/DME | SPRINGFIELD, MO VORTAC | *6200
*3100—MOCA
*4000—GNSS MEA
§ 95.6213 VOR Federal Airway V213 Is Amended To Read in Part
GRAND STRAND, SC VORTAC | WILMINGTON, NC VORTAC | UNUSABLE
WILMINGTON, NC VORTAC | WALLO, NC FIX | UNUSABLE
§ 95.6229 VOR Federal Airway V229 Is Amended To Read in Part
DIXIE, NJ FIX | KENNEDY, NY VOR/DME | *2500
*1700—MOCA
§ 95.6252 VOR Federal Airway V252 Is Amended To Read in Part
AIRCO, NY FIX | GENESEO, NY VOR/DME | *4000
*2800—MOCA
95.6316 VOR Federal Airway V316 Is Amended To Delete
SAULT STE MARIE, MI VOR/DME | U.S. CANADIAN BORDER | *5000
*2800—MOCA
§ 95.6510 VOR Federal Airway V510 Is Amended To Delete
BUFFALO, NY VOR/DME | *EHMAN, NY FIX | **11000
*11000—MCA EHMAN, NY FIX, SW BND
**3000—GNSS MEA
EHMAN, NY FIX | ROCHESTER, NY VOR/DME | 2400
§ 95.6527 VOR Federal Airway V527 Is Amended To Read in Part
RAZORBACK, AR VORTAC | BILIE, MO FIX | *4000
*3200—MOCA
§ 95.6424 Hawaii VOR Federal Airway V24 Is Amended To Read in Part
#*LANAI, HI VORTAC | MAUI, HI VORTAC | **9000
*5100—MCA LANAI, HI VORTAC, NE BND
**7800—MOCA
#6700—MCA MAUI, HI VORTAC, SW BND

Airway Segment: From | Airway Segment: To | Changeover Points: Distance | Changeover Points: From
§ 95.8003 VOR Federal Airway Changeover Point V159 Is Amended To Add Changeover Point
SPRINGFIELD, MO VORTAC | NAPOLEON, MO VORTAC | 57 | SPRINGFIELD.

[FR Doc. 2021-28504 Filed 1-4-22; 8:45 am]

BILLING CODE 4910-13-P